DEPARTMENT OF HEALTH AND HUMAN SERVICES

Impact of Health Misinformation in the Digital Information Environment in the United States Throughout the COVID-19 Pandemic Request for Information (RFI); Correction

AGENCY: Office of the Surgeon General, Department of Health and Human Services.

ACTION: Notice; correction.

SUMMARY: The Office of the Surgeon General published a document in the Federal Register of March 7, 2022, requesting information regarding the Impact of Health Information Misinformation in the Digital Information Environment in the United States Throughout the COVID-19 Pandemic. The document included a hyperlink in which the public will not be able to access.

FOR FURTHER INFORMATION CONTACT: Max Lesko at COVIDMisinfoRFI@hhs.gov or at (202) 893-5020.

SUPPLEMENTARY INFORMATION:

Correction

In the Federal Register of March 7, 2022, in FR Doc. 2022-04777, on page 12713, in the third column, correct the section which reads, “a. Starting with, but not limited to, these common examples of COVID-19 vaccine misinformation documented by the Centers for Disease Control and Prevention (CDC), any aggregate data and analysis on the prevalence of COVID-19 misinformation on individual platforms including exactly how many users saw or may have been exposed to instances of COVID-19 misinformation.” to read, “a. Starting with but not limited to https://www.cdc.gov/coronavirus/2019-ncov/vaccines/facts.html of COVID-19 vaccine misinformation documented by the Centers for Disease Control and Prevention (CDC), any aggregate data and analysis on the prevalence of COVID-19 misinformation on individual platforms including exactly how many users saw or may have been exposed to instances of COVID-19 misinformation.”

Max Lesko,
Chief of Staff, Office of the Surgeon General.

[FR Doc. 2022-05132 Filed 3-10-22; 8:45 am]

BILLING CODE 4150-28-P